DEPARTMENT OF ENERGY

Federal Energy Regulatory Commission

[Docket No. RM13-2-000]

Small Generator Interconnection Agreements and Procedures; Workshop

Take notice that Federal Energy Regulatory Commission (Commission) staff will convene a workshop in the above-referenced proceeding on Wednesday, March 27, 2013, from 10:00 a.m. to 5:00 p.m. (EDT) in the Commission Meeting Room at the offices of the Federal Energy Regulatory Commission, 888 First Street NE., Washington, DC 20426. Members of the Commission may attend the workshop, which will also be open to the public. Advance registration is not required, but is encouraged. Attendees may register at the following Web page: https://www.ferc.gov/whats-new/registration/small-generator-03-27-13-form.asp.

The purpose of this workshop is to discuss certain topics related to the proposals in the Small Generator Interconnection Agreements and Procedures Notice of Proposed Rulemaking (NOPR) issued by the Commission on January 17, 2013 (Docket No. RM13-2-000).¹

¹ Small Generator Interconnection Agreements and Procedures, 142 FERC ¶ 61,049 (2013), 78 FR 7524 (2013).

This workshop is not intended to address the substance of any particular case pending before the Commission. However, notice is hereby given that discussions at the workshop may address matters at issue in the following Commission proceedings that are either pending or within their rehearing period: CSOLAR IV South, LLC, Wistaria Ranch Solar, LLC, CSOLAR IV West, LLC & CSOLAR IV North, LLC v. California Independent System Operator Corporation (Docket No. EL13-37-000), NV Energy Operating Co. (Docket No. ER13-679-000), North American Natural Resources, Inc. v. PJM Interconnection, L.L.C., American Electric Power Service Corp., and Indiana Michigan Power Co. (Docket No. EL13-10-000), Southern California Edison Company (Docket No. ER13-532-000), Pacific Gas and Electric Company (Docket No. ER13-494-000), California Independent System Operator Corporation (Docket No. ER13-218-001), California Independent System Operator Corporation (Docket Nos. ER12-2643-000 and ER12-2643-001), Review of Small Generator Interconnection Agreements and Procedures (Docket No. AD12-17-000), and Solar Energy Industries Association (Docket No. RM12-10-000).

Those interested in participating in the discussions at the workshop should notify the Commission by close of business March 8, 2013, by completing an online form identifying the topic(s) that they wish to address: https://www.ferc.gov/whats-new/registration/small-generator-speaker-03-27-13-form.asp. Due to time constraints, we may not be able to accommodate all those interested in speaking. The Commission will issue a subsequent notice providing the detailed agenda for the workshop, including speakers.

The topics tentatively scheduled for discussion at the workshop include:

a. Whether the characteristics proposed in the NOPR for Fast Track Process eligibility (i.e., up to 5 megawatts based on individual system and generator characteristics, including interconnection voltage level, the circuit distance of the interconnection from the substation, and generator capacity) should be modified to protect system safety and reliability.

b. The specific content of the supplemental review screens proposed in the NOPR, including:

i. Whether twelve months of minimum load data is appropriate for use in the minimum load screen, or whether additional data, if available, should be required to be considered;

ii. The reasons that minimum load data are not available to Transmission Providers and what the Commission could do to encourage data availability where appropriate;

iii. Potential modifications to the supplemental review screens proposed in the NOPR; and

iv. Whether the $2,500 fee for the supplemental review proposed in the NOPR is appropriate.

c. The content of the pre-application report and whether the $300 fee for the pre-application report proposed in the NOPR is appropriate.

d. Whether storage devices could fall within the definition of Small Generating Facility included in Attachment 1 to the Small Generator Interconnection Procedures and Attachment 1 to the Small Generator Interconnection Agreement (SGIA) as devices that produce electricity.

e. The proposed revision to section 1.5.4 of the pro forma SGIA related to disconnection of the Small Generating Facility during an over- or under-frequency event.

We note that the topics included here do not encompass all the proposals in the NOPR. The Commission encourages stakeholders to submit written comments on all the proposals in the NOPR, not just those discussed at the workshop. There will not be a separate comment period for the workshop. The deadline for submitting written comments on the NOPR, including comments on the results of the workshop, is June 3, 2013.

The workshop will not be transcribed. However, there will be a free webcast of the workshop. Anyone with Internet access interested in viewing this workshop can do so by navigating to the FERC Calendar of Events at www.ferc.gov and locating this event in the Calendar. The event will contain a link to its webcast. The Capitol Connection provides technical support for the webcasts and offers the option of listening to the workshop via phone-bridge for a fee. If you have any questions, visit www.CapitolConnection.org or call (703) 993-3100.

FERC workshops are accessible under section 508 of the Rehabilitation Act of 1973. For accessibility accommodations please send an email to accessibility@ferc.gov or call toll free 1-866-208-3372 (voice) or 202-208-8659 (TTY), or send a fax to 202-208-2106 with the required accommodations.

For information related to the agenda, please contact Leslie Kerr at leslie.kerr@ferc.gov or (202) 502-8540. For information related to logistics, please contact Sarah McKinley at sarah.mckinley@ferc.gov or (202) 502-8368.

Dated: February 27, 2013.
Kimberly D. Bose,
Secretary.

[FR Doc. 2013-05117 Filed 3-5-13; 8:45 am]

BILLING CODE 6717-01-P